FARM CREDIT ADMINISTRATION

Farm Credit Administration Board; Regular Meeting

AGENCY: Farm Credit Administration.

SUMMARY: Notice is hereby given, pursuant to the Government in the Sunshine Act (5 U.S.C. 552b(e)(3)), that the April 9, 2009 regular meeting of the Farm Credit Administration Board (Board) has been rescheduled pursuant to a December 11, 2008 Board vote. The regular meeting of the Board will be held Thursday, April 16, 2009, starting at 9 a.m. An agenda for this meeting is set forth below.

Date and Time: The regular meeting of the Board will be held at the offices of the Farm Credit Administration in McLean, Virginia, on April 16, 2009, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• March 12, 2009

B. New Business

• Notice and Request for Comment—Final Revisions to the Interagency Questions and Answers Regarding Flood Insurance

C. Reports

• Update on Agricultural Economic Conditions

• Auditors' Report on FCSBA FY2008 Financial Statements

Closed Session *

* Session Closed-Exempt pursuant to 5 U.S.C. 552b(c)(8) and (9).

• Office of Secondary Market Oversight Quarterly Report

Dated: April 1, 2009.
Roland E. Smith,
Secretary, Farm Credit Administration Board.

[FR Doc. E9-7839 Filed 4-2-09; 4:15 pm]

BILLING CODE 6705-01-P